DEPARTMENT OF TRANSPORTATION

Pipeline and Hazardous Materials Safety Administration

[Docket No. PHMSA-2012-0280; Notice No. 12-11]

Safety Advisory Notice: Safety Advisory for Shippers and Carriers of Air Bags

AGENCY: Pipeline and Hazardous Materials Safety Administration (PHMSA), DOT.

ACTION: Safety Advisory Notice.

SUMMARY: PHMSA has been alerted by the National Highway Traffic Safety Administration (NHTSA) that counterfeit air bags have been sold as replacement parts to consumers and repair professionals. These counterfeit products may contain unapproved explosives and thus pose additional transportation risks when compared to air bags manufactured through legitimate means. Therefore, PHMSA is issuing this Safety Advisory Notice to (1) notify shippers and carriers of problems involving counterfeit air bags; (2) provide guidance on the proper classification of air bags; (3) specify provisions applicable to devices containing unapproved explosives; and (4) provide the next steps that PHMSA will take to address this problem. Consumers or repair professionals who suspect they have a counterfeit air bag should contact a call center established by their auto manufacturer. A list of these call centers and other additional information, including the list of vehicles that may contain counterfeit air bags, can be found at www.SaferCar.gov.

FOR FURTHER INFORMATION CONTACT: Field Operations Division, Office of Hazardous Materials Safety, (202) 366-4700, 1200 New Jersey Avenue SE., Washington, DC 20590.

SUPPLEMENTARY INFORMATION:

I. Background

PHMSA was recently advised by NHTSA that consumers and repair professionals may face a potential safety risk involving the sale of counterfeit air bags for use as replacement parts. Some of these devices look nearly identical to legitimate products, including the branding of certain major automakers. While NHTSA is not aware of any fatalities or injuries that have resulted from counterfeit equipment, their testing has shown malfunctioning ranging from non-deployment of the air bag to the expulsion of metal shrapnel during deployment. NHTSA estimates this problem affects a minute percent of vehicles in the U.S. vehicle fleet. NHTSA described the risk in a press release as “only vehicles which have had an air bag replaced within the past three years by a repair shop that is not part of a new car dealership may be at risk.” NHTSA's press release is available at the following URL: http://www.nhtsa.gov/About+NHTSA/Press+Releases/2012/Safety+Advisory:+NHTSA+Alerting+Consumers+to+Dangers+of+Counterfeit+Air+Bags.

II. Current Regulatory Requirements

Many air bags incorporate a pyrotechnic device, known as an initiator or electric match, consisting of an electrical conductor cocooned in combustible material. A current pulse heats up the conductor, which in turn ignites the combustible material and the reaction causes gases that fill the air bag. Air bags that deploy a pyrotechnic device meet the definition of an explosive for which PHMSA has regulatory authority. These air bags must be approved by PHMSA before the air bag is authorized for transportation in commerce. An air bag without an approval, including a counterfeit air bag, is considered a forbidden explosive as specified in § 173.54(a) of the Hazardous Materials Regulations (HMR; 49 CFR parts 171-180) and may not be offered for transportation or transported in commerce.

The classification and packing group requirements contained in the HMR provide for the safe transportation of properly manufactured and approved air bag products. In addition to classification by the shipper, each air bag is required to acquire approval by the Associate Administrator for Hazardous Materials Safety (§ 173.166(b)). This approval is a mechanism of ensuring that these products, which contain pyrotechnic initiators, meet the appropriate safety standards.

An approved airbag may be shipped under the description “UN3268, Air bag inflators, or Air bag modules, or Seat-belt pretensioners, 9, PGIII.” The air bag must be in rigid, outer packaging that meets the general packaging requirements of part 173, packaging specification requirements of part 178, and is designed and constructed to prevent movement of the articles and inadvertent operation. Authorized packagings are as follows: 1A2, 1B2, 1G or 1H2 drums; 3A2 or 3H2 jerricans; and 4C1, 4C2, 4D, 4F, 4G or 4H2 boxes. Shipments of Class 9 air bags are required to display a Class 9 label, according to § 173.166(f). In addition, as stated in § 173.166(c), when offered for transportation, shipping papers accompanying an air bag must contain the EX number or product code for each approved device.

III. PHMSA Guidance for Unapproved Explosives

PHMSA recognizes the increased transportation hazards presented by the shipping of suspected counterfeit devices and potentially unapproved explosives. Suspected counterfeit air bags are subject to approval by the Associate Administrator for Hazardous Materials Safety as explosive devices, using the classification criteria in § 173.56. In accordance with § 173.54(a) a forbidden explosive is an explosive that has not been approved as specified in § 173.56. Therefore, per § 173.21(b), the offering for transportation or transportation of an unapproved explosive is forbidden by the HMR.

Information regarding training as well as guidance documents regarding the requirements of the HMR can be found on PHMSA's Hazardous Materials Safety Web site at http://www.phmsa.dot.gov/hazmat. The HMR are also accessible through our Web site, and answers to specific questions regarding the HMR may be obtained from the Hazardous Materials Information Center at 1-800-467-4922 (in Washington, DC, call 202-366-4488).

IV. Next Steps

PHMSA and NHTSA are continuing to work with our partners at the U.S. Customs and Border Protection's Commercial Targeting and Analysis Center to identify and target potential manufacturers and importers of these unapproved devices in order to prevent the entry of unsafe products into the U.S. PHMSA continues to work with the regulated community to assess and monitor concerns related to the reverse logistics of these devices. In an effort to further the investigation on the sale of counterfeit air bags, if a shipper or carrier believes they are in possession of an unapproved device, please contact the Hazardous Materials Information Center at 1-800-467-4922 (in Washington, DC, call 202-366-4488).

Issued in Washington, DC, on November 14, 2012, under authority delegated in 49 CFR Part 106.
Magdy El-Sibaie,
Associate Administrator for Hazardous Materials Safety, Pipeline and Hazardous Materials Safety Administration.

[FR Doc. 2012-28238 Filed 11-20-12; 8:45 am]

BILLING CODE 4910-60-P